DEPARTMENT OF THE TREASURY

Office of the Comptroller of the Currency

FEDERAL RESERVE SYSTEM

FEDERAL DEPOSIT INSURANCE CORPORATION

Proposed Agency Information Collection Activities; Comment Request

AGENCIES: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (44 U.S.C. chapter 35), the OCC, the Board, and the FDIC (the “agencies”) may not conduct or sponsor, and the respondent is not required to respond to, an information collection unless it displays a currently valid Office of Management and Budget (OMB) control number. The Federal Financial Institutions Examination Council (FFIEC), of which the agencies are members, has approved the agencies' publication for public comment of proposed revisions to the Country Exposure Report (FFIEC 009) and the Country Exposure Information Report (FFIEC 009a), which are currently approved collections of information. At the end of the comment period, the comments and recommendations received will be analyzed to determine the extent to which the FFIEC should modify the proposed revisions prior to giving its final approval. The agencies will then submit the revisions to OMB for review and approval.

DATES: Comments must be submitted on or before January 7, 2003.

ADDRESSES: Interested parties are invited to submit written comments to any or all of the agencies. All comments, which should refer to the OMB control number(s), will be shared among the agencies.

OCC: Comments should be sent to the Public Information Room, Office of the Comptroller of the Currency, Mailstop 1-5, Attention: 1557-0100, 250 E Street, SW, Washington, DC 20219. Due to delays in the OCC's mail service since September 11, 2001, commenters are encouraged to submit comments by fax or e-mail. Comments may be sent by fax to (202) 874-4448, or by e-mail to regs.comments@occ.treas.gov. You can inspect and photocopy the comments at the OCC's Public Information Room, 250 E Street, SW, Washington, DC 20219. You can make an appointment to inspect the comments by calling (202) 874-5043.

Board: Written comments, which should refer to “Country Exposure Report, 7100-0035,” may be mailed to Ms. Jennifer J. Johnson, Secretary, Board of Governors of the Federal Reserve System, 20th and C Streets, NW, Washington, DC 20551. However, because paper mail in the Washington area and at the Board of Governors is subject to delay, please consider submitting your comments by electronic mail to regs.comments@Federalreserve.gov, or faxing them to the Office of the Secretary at (202) 452-3819 or (202) 452-3102. Comments addressed to Ms. Johnson may also be delivered to the Board's mail facility in the West Courtyard between 8:45 a.m. and 5:15 p.m., located on 21st Street between Constitution Avenue and C Street, NW. Members of the public may inspect comments in room M-P-500 between 9 a.m. and 5 p.m. on weekdays pursuant to section 261.12, except as provided in 261.14, of the Board's Rules Regarding Availability of Information, 12 CFR 261.12 and 261.14.

FDIC: Written comments should be addressed to Robert E. Feldman, Executive Secretary, Attention: Comments/Legal Division, Federal Deposit Insurance Corporation, 550 17th Street, NW, Washington, DC 20429. All comments should refer to “Country Exposure Report, 3064-0017.” Commenters are encouraged to submit comments by fax or electronic mail [Fax number: (202) 898-3838; Internet address: comments@fdic.gov]. Comments also may be hand-delivered to the guard station at the rear of the 550 17th Street Building (located on F Street) on business days between 7 a.m. and 5 p.m. Comments may be inspected and photocopied in the FDIC Public Information Center, Room 100, 801 17th Street, NW, Washington, DC, between 9 a.m. and 4:30 p.m. on business days.

A copy of the comments may also be submitted to the OMB desk officer for the agencies: Joseph F. Lackey, Jr., Office of Information and Regulatory Affairs, Office of Management and Budget, New Executive Office Building, Room 10235, Washington, DC 20503 or electronic mail to jlackeyj@omb.eop.gov.

FOR FURTHER INFORMATION CONTACT: additional information or a copy of the collection may be requested from any of the agency clearance officers whose names appear below.

OCC: Jessie Dunaway, OCC Clearance Officer, or Camille Dixon, (202) 874-5090, Legislative and Regulatory Activities Division, Office of the Comptroller of the Currency, 250 E Street, SW., Washington, DC 20219.

Board: Cindy Ayouch, Board Clearance Officer, (202) 452-3829, Division of Research and Statistics, Board of Governors of the Federal Reserve System, 20th and C Streets, NW, Washington, DC 20551. Telecommunications Device for the Deaf (TDD) users may call (202) 263-4869.

FDIC: Tamara R. Manly, Management Analyst (Regulatory Analysis), (202) 898-7453, Legal Division, Federal Deposit Insurance Corporation, 550 17th Street NW, Washington, DC 20429.

SUPPLEMENTARY INFORMATION: Proposal to Revise the Filing Method and to Extend For Three Years The Following Currently Approved Collections of Information.

Report Title: Country Exposure Report/Country Exposure Information Report

Form Number: FFIEC 009 and FFIEC 009a Frequency of Response: Quarterly

Affected Public: Business or other for profit

For OCC:

OMB Number: 1557-0100

Estimated Number of Respondents: 21 (FFIEC 009); 21 (FFIEC 009a)

Estimated Average Time per Response: 30 burden hours (FFIEC 009); 5.25 burden hours (FFIEC 009a)

Estimated Total Annual Burden: 2,520 burden hours (FFIEC 009); 441 burden hours (FFIEC 009a)

For Board:

OMB Number: 7100-0035

Estimated Number of Respondents: 31 (FFIEC 009); 16 (FFIEC 009a)

Estimated Average Time per Response: 30 burden hours (FFIEC 009); 5.25 burden hours (FFIEC 009a)

Estimated Total Annual Burden: 3720 burden hours (FFIEC 009); 336 burden hours (FFIEC 009a)

For FDIC:

OMB Number: 3064-0017

Estimated Number of Respondents: 22 (FFIEC 009); 22 (FFIEC 009a)

Estimated Average Time per Response: 30 burden hours (FFIEC 009); 5.25 burden hours (FFIEC 009a)

Estimated Total Annual Burden: 2,640burden hours (FFIEC 009); 462 burden hours (FFIEC 009a)

General Description of Reports

These information collections are mandatory: 12 U.S.C. 161 and 1817 (for national banks), 12 U.S.C. 248(a), 1844(c), and 3906 (for state member banks and bank holding companies); and 12 U.S.C. 1817 and 1820 (for insured state nonmember commercial and savings banks). The FFIEC 009 information collection is given confidential treatment (5 U.S.C. 552(b)(4) and (b)(8)). The FFIEC 009a information collection is not given confidential treatment. Small businesses (i.e., small banks) are not affected.

Abstract

The Country Exposure Report (FFIEC 009) is filed quarterly with the agencies and provides information on international claims of U.S. banks and bank holding companies that is used for supervisory and analytical purposes. The information is used to monitor country exposure of banks to determine the degree of risk in their portfolios and the possible impact on U.S. banks of adverse developments in particular countries. The Country Exposure Information Report (FFIEC 009a) is a supplement to the FFIEC 009 and provides publicly available information on material foreign country exposures (all exposures to a country in excess of one percent of total assets or 20 percent of capital, whichever is less) of U.S. banks and bank holding companies that file the FFIEC 009 report. As part of the Country Exposure Information Report, reporting institutions must also furnish a list of countries in which they have lending exposures above 0.75 percent of total assets or 15 percent of total capital, whichever is less.

Current Action

The agencies propose to require electronic submission of all FFIEC 009 and 009a reports effective with the March 31, 2003, report date. The agencies would no longer accept paper (hard copy) reports from banks and bank holding companies after the December 31, 2002, report date. The submission deadline would remain 45 calendar days after the report date. No changes are proposed to the FFIEC 009 and 009a reporting forms.

Type of Review: Revision of a currently approved collection.

Proposed Change in Submission Method

The agencies propose to require electronic submission of the FFIEC 009 and 009a reports as part of an ongoing effort to improve data quality and the efficiency of the data collection process. Over the past five years, the agencies have implemented an electronic submission requirement for bank Reports of Condition and Income (Call Reports) and have realized efficiencies in the collection process with minimal increase in burden to reporting institutions. In addition, the agencies have allowed foreign banks to electronically submit the Report of Assets and Liabilities of U.S. Branches and Agencies of Foreign Banks (FFIEC 002) and the Report of Assets and Liabilities of Non-U.S. Branches that are Managed or Controlled by a U.S. Branch or Agency of a Foreign Bank (FFIEC 002s), which has improved the efficiency of the collection process for those reports. The agencies believe that requiring electronic submission of FFIEC 009 and 009a reports can result in similar benefits.

The agencies propose to have the Board collect and process the FFIEC 009 and 009a reports on their behalf via the Federal Reserve System's Internet Electronic Submission (IESUB) system. The Board, which collects and processes the FFIEC 002 and 002s for the three agencies, currently allows foreign banks to submit these reports via IESUB. Electronic filing capability via IESUB is available on the Internet through the use of data entry or a file transfer feature. These methods are secure and result in a minimal burden to banks and bank holding companies. Reporting institutions must enroll and be authenticated before IESUB will accept a report submission.

The file transfer feature allows institutions to submit reports over the Internet in a pre-defined file format. The files can be created from a spreadsheet (e.g., Microsoft Excel (c), Lotus 123 (c)) or any other back-end system that a reporting institution uses to generate its data. When an institution submits its FFIEC 009 and 009a reports either through data entry or a pre-defined file format, IESUB will check the validity of the data and provide the institution with a receipt containing the data submitted and the date and time that IESUB received the file. A complete description of IESUB, including the system requirements, security and file transfer features is available at the Federal Reserve System reporting website http://www.reportingandreserves.org/req.html.

The agencies believe that this revision would not be a significant burden to banks or bank holding companies because of advancements in, and the common use of, computer technology currently available for the filing of regulatory reports.

Request for Comment

Public comment is requested on all aspects of this proposal. In addition, comments are invited on:

(a) Whether the proposed revisions to the FFIEC 009 and 009a collections of information are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start up costs and costs of operation, maintenance, and purchase of services to provide information.

Comments submitted in response to this Notice will be shared among the agencies and will be summarized or included in the agencies' requests for OMB approval. All comments will become a matter of public record. Written comments should address the accuracy of the burden estimates and ways to minimize burden as well as other relevant aspects of the information collection request.

Dated: October 28, 2002.
Mark J. Tenhundfeld,
Assistant Director, Legislative and Regulatory Activities Division, Office of the Comptroller of the Currency.

Board of Governors of the Federal Reserve System, October 31, 2002.
Jennifer J. Johnson,
Secretary of the Board.

Dated at Washington, D.C., this 28th day of October, 2002.
FEDERAL DEPOSIT INSURANCE CORPORATION
Robert E. Feldman,
Executive Secretary.

[FR Doc. 02-28118 Filed 11-7-02; 8:45 am]

BILLING CODES OCC: 4810-33-S 1/3; Board: 6210-01-S 1/3; FDIC: 6714-01-S 1/3